DEPARTMENT OF COMMERCE

National Oceanic and Atmospheric Administration

[RTID 0649-XA703]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a 3-day meeting via webinar of its Standing, Reef Fish, Mackerel, Socioeconomic and Ecosystem Scientific and Statistical Committees (SSC)

DATES: The meeting will be held on Tuesday, January 5, 2021 to Thursday, January 7, 2021. See SUPPLEMENTARY INFORMATION for specific times.

ADDRESSES: The meeting will take place via webinar; you may register by visiting www.gulfcouncil.org and clicking on the SSC meeting on the calendar.

Council address: Gulf of Mexico Fishery Management Council, 4107 W Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Tuesday, January 5, 2021; 9 a.m.-5 p.m., EST

The meeting will begin with Introductions and Adoption of Agenda, Approval of Verbatim Minutes and Meeting Summary from September 14-15, 2020 webinar meeting and October 30, 2020 joint webinar meeting with the South Atlantic SSC, review Scope of Work, selection of SSC Representative for the January 25-28, 2021 Gulf Council Meeting.

The Committees will review SEDAR 70: Gulf of Mexico Greater Amberjack Stock Assessment; SEDAR 70 Stock Assessment Report, Presentation and Projections, Something's Fishy and Stock Assessment Executive Summary. The Committees will then discuss the Sea Grant/NMFS Greater Amberjack Research Program, and adjourn for the day.

Wednesday, January 6, 2021; 9 a.m.-5 p.m., EST

The Committees will review and hold discussions on Red Grouper Recreational Landings Data, followed by a Review of Council Proposed Interim Analysis Schedule. The Committees will then review Red Snapper Supply Chains and Markets, followed by the Great Red Snapper Count (GRSC), including a presentation, the project report, and a discussion on SEFSC integration of GRSC data into the interim analysis process. The Committees will then review Testing assumptions about sex change and spatial management in the protogynous gag grouper, Mycteroperca microlepis, and then adjourn for the day.

Thursday, January 7, 2021; 9 a.m.-3 p.m., EST

The Committees will review a presentation and background materials on Gulf of Mexico Habitat Research, and will then discuss. The Committees will then review a Request for Participants: SEDAR 79: Southeastern U.S. Mutton Snapper.

The Committees will consider carryover of uncaught commercial quota for Individual Fishing Quota (IFQ) managed species; and, will review a presentation on 2020 Commercial landings for IFQ species, consider updated ABC recommendations for IFQ species in 2021 and receive a summary presentation on Carryover Provisions and Framework Modifications.

Lastly, the Committee will discuss Other Business items and receive public comment.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Authority: 16 U.S.C. 1801 et seq.

Dated: December 15, 2020.
Rey Israel Marquez,
Acting Deputy Director, Office of Sustainable Fisheries, National Marine Fisheries Service.

[FR Doc. 2020-27971 Filed 12-17-20; 8:45 am]

BILLING CODE 3510-22-P